DEPARTMENT OF COMMERCE

International Trade Administration

[A-588-846]

Certain Hot-Rolled Flat-Rolled Carbon-Quality Steel Products From Japan: Rescission of Antidumping Duty Administrative Review

AGENCY: Import Administration, International Trade Administration, U.S. Department of Commerce.

SUMMARY: In accordance with 19 CFR 351.213(b)(1), the Department of Commerce (the Department) received a timely request from petitioners, Bethlehem Steel Corporation and United States Steel Corporation, to conduct an administrative review of the sales of subject merchandise made by producers Sumitomo Metal Industries, Ltd. (Sumitomo), and Kawasaki Steel Corporation (Kawasaki). On July 24, 2002, the Department initiated an administrative review of the antidumping duty order on certain hot-rolled flat-rolled carbon-quality steel products from Japan for the period of review (POR) from June 1, 2001 to May 31, 2002. Because petitioners have withdrawn their request for review within 90 days of the notice of initiation's publication date, and because no other parties requested a review, the Department is rescinding this review in accordance with 19 CFR 351.213(d)(1).

EFFECTIVE DATE: January 8, 2003.

FOR FURTHER INFORMATION CONTACT: Mark Hoadley, AD/CVD Enforcement Group III, Office 7, Import Administration, International Trade Administration, U.S. Department of Commerce, 14th Street and Constitution Avenue, NW., Washington, DC 20230; telephone (202) 482-3148.

SUPPLEMENTARY INFORMATION:

Background

On June 29, 1999, the Department published in the Federal Register the antidumping duty order on certain hot-rolled flat-rolled carbon-quality steel flat products from Japan. See Antidumping Duty Order; Certain Hot-Rolled Flat-Rolled Carbon-Quality Steel Products From Japan, 64 FR 34778. In response to a timely request from petitioners, Bethlehem Steel Corporation and United States Steel Corporation, filed in accordance with 19 CFR 351.213(b), the Department initiated an administrative review of this antidumping duty order, covering the period of June 1, 2001 through May 31, 2002. See Initiation of Antidumping and Countervailing Duty Administrative Reviews and Requests for Revocation in Part, 67 FR 48435 (July 24, 2002). The request covered two manufacturers/exporters of the subject merchandise, Kawasaki and Sumitomo. Kawasaki submitted a letter to the Department on September 10, 2002 stating that it did not have any reviewable or reportable U.S. sales, entries, or shipments of subject merchandise during the POR. On October 22, 2002, petitioners withdrew their request for an administrative review with respect to both Kawasaki and Sumitomo.

Rescission of Review

Pursuant to our regulations, the Department will rescind an administrative review, “if a party that requested the review withdraws the request within 90 days of the date of publication of notice of initiation of the requested review.” See 19 CFR 351.213(d)(1). This section further provides that the Secretary may extend this time limit if the Secretary decides that it is reasonable to do so. See CFR 351.213(d)(1). In this case, petitioners' withdrawal of their request for review was within the 90-day time limit, and there were no other requests for review. Therefore, the Department is rescinding this administrative review for the period June 1, 2001 through May 31, 2002. The Department will issue appropriate assessment instructions to the U.S. Customs Service. This notice is published in accordance with sections 751(a)(2)(B) and 777(i) of the Act.

Dated: December 24, 2002.
Faryar Shirzad,
Assistant Secretary for Import Administration.

[FR Doc. 03-349 Filed 1-7-03; 8:45 am]

BILLING CODE 3510-DS-P